DEPARTMENT OF THE INTERIOR

National Park Service

[NPS-WASO-NAGPRA-NPS0037882; PPWOCRADN0-PCU00RP14.R50000]

Notice of Intended Repatriation: California State University, Sacramento, Sacramento, CA

AGENCY: National Park Service, Interior.

ACTION: Notice.

SUMMARY: In accordance with the Native American Graves Protection and Repatriation Act (NAGPRA), the California State University, Sacramento intends to repatriate certain cultural items that meet the definition of sacred objects or objects of cultural patrimony and that have a cultural affiliation with the Indian Tribes or Native Hawaiian organizations in this notice.

DATES: Repatriation of the cultural items in this notice may occur on or after June 10, 2024.

ADDRESSES: Dr. Mark Wheeler, Senior Advisor to President Luke Wood, California State University, Sacramento, 6000 J Street Sacramento, CA 95819, telephone (916) 460-0490, email mark.wheeler@csus.edu.

SUPPLEMENTARY INFORMATION: This notice is published as part of the National Park Service's administrative responsibilities under NAGPRA. The determinations in this notice are the sole responsibility of the California State University, Sacramento, and additional information on the determinations in this notice, including the results of consultation, can be found in the summary or related records. The National Park Service is not responsible for the determinations in this notice.

Abstract of Information Available

A total of 311 cultural items have been requested for repatriation.

In 1964-71, Stephen Humphreys, a student at Sacramento State College, conducted extensive surveys and excavations in the region between Oroville and Paradise in Butte County, California. Humphries surfaced collected from CA-BUT-60 (Vine Rockshelter), BUT-61 (Bow Shaft Rockshelter), BUT-303 (Gold Flat #1), and BUT-304 (Gold Flat #2). The 15 objects of cultural patrimony from BUT-60 are flaked stone tools and a steatite vessel. The three sacred objects are perishable botanical remains. The 69 objects of cultural patrimony from CA-BUT-61 are flaked and modified stone objects; the 53 sacred objects are pigment, worked wood and bone objects, glass and shell beads, crystals, and animal remains. The 171 objects of cultural patrimony from BUT-303/304 are modified stone, ground stone, flaked stone, unmodified stone, and animal remains. An unknown number of objects may be missing from the collection, and California State University, Sacramento continues to look for them.

Determinations

The California State University, Sacramento has determined that:

• The 56 sacred objects described in this notice are specific ceremonial objects needed by a traditional Native American religious leader for present-day adherents to practice traditional Native American religion, according to the Native American traditional knowledge of a lineal descendant, Indian Tribe, or Native Hawaiian organization.

• The 255 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Mechoopda Indian Tribe of Chico Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 10, 2024. If competing requests for repatriation are received, the California State University, Sacramento must determine the most appropriate requestor prior to repatriation. Requests for joint repatriation of the cultural items are considered a single request and not competing requests. The California State University, Sacramento is responsible for sending a copy of this notice to the Indian Tribes and Native Hawaiian organizations identified in this notice and to any other consulting parties.

Authority: Native American Graves Protection and Repatriation Act, 25 U.S.C. 3004 and the implementing regulations, 43 CFR 10.9.

Dated: April 30, 2024.
Melanie O'Brien,
Manager, National NAGPRA Program.

[FR Doc. 2024-10157 Filed 5-8-24; 8:45 am]

BILLING CODE 4312-52-P